TENNESSEE VALLEY AUTHORITY

Sunshine Act Meetings

TIME AND DATE: 9:00 a.m. CT on November 10, 2022.

PLACE: The Mill Conference Center, 600 Russell Street, Starkville, Mississippi.

STATUS: Open.

MATTERS TO BE CONSIDERED:

Meeting No. 22-04

The TVA Board of Directors will hold a public meeting on November 10, 2022, at The Mill Conference Center, 600 Russell Street, Starkville, Mississippi.

The meeting will be called to order at 9:00 a.m. CT to consider the agenda items listed below. TVA management will answer questions from the news media following the Board meeting.

On November 9, at The Mill Conference Center, the public may comment on any agenda item or subject at a board-hosted public listening session which begins at 2:00 p.m. CT and will last until 4:00 p.m. Preregistration is required to address the Board.

Agenda

1. Approval of minutes of the August 31, 2022 Board Meeting

2. Report of the Operations and Nuclear Oversight Committee

A. Pilot Solar Project at Shawnee Fossil Plant

3. Report of the Audit, Finance, Risk, and Cybersecurity Committee

4. Report of the People and Governance Committee

A. FY22 and FY23 Performance and Compensation

5. Report of the External Stakeholders and Regulation Committee

6. Report from President and CEO

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: November 3, 2022.
Edward C. Meade,
Agency Liaison.

[FR Doc. 2022-24478 Filed 11-4-22; 4:15 pm]

BILLING CODE 8120-08-P